DEPARTMENT OF ENERGY

Federal Energy Regulatory Commission

[Docket No. AD10-12-013]

Increasing Market and Planning, Efficiency through Improved Software; Supplemental Notice of Technical Conference on Increasing Real-Time and Day-Ahead Market and Planning Efficiency Through Improved Software

As first announced in the Notice of Technical Conference issued in this proceeding on February 24, 2022, Commission staff convened a technical conference on June 21, 22, and 23, 2022 to discuss opportunities for increasing real-time and day-ahead market and planning efficiency of the bulk power system through improved software. Attached to this Second Supplemental Notice is a final agenda for the technical conference and speakers' summaries of their presentations with minor corrections to the agenda published in the Supplemental Notice of Technical Conference on May 27, 2022.

For further information about these conferences, please contact:

Sarah McKinley (Logistical Information), Office of External Affairs, (202) 502-8004, Sarah.McKinley@ferc.gov.

Alexander Smith (Technical Information), Office of Energy Policy and Innovation, (202) 502-6601, Alexander.Smith@ferc.gov.

Dated: July 14, 2022.
Debbie-Anne A. Reese,
Deputy Secretary.

[FR Doc. 2022-15481 Filed 7-19-22; 8:45 am]

BILLING CODE 6717-01-P